DEPARTMENT OF COMMERCE

Foreign-Trade Zones Board

[B-20-2017]

Foreign-Trade Zone (FTZ) 43—Battle Creek, Michigan Notification of Proposed Production Activity, Mead Johnson & Company, LLC, dba Mead Johnson Nutritional, Subzone 43B, (Infant Formula/Nutritional Products), Zeeland, Michigan

Mead Johnson & Company, LLC, dba Mead Johnson Nutritional (Mead Johnson) submitted a notification of proposed production activity to the FTZ Board for its facilities in Zeeland, Michigan, within Subzone 43B. The notification conforming to the requirements of the regulations of the FTZ Board (15 CFR 400.22) was received on March 27, 2017.

Mead Johnson already has authority to produce within Subzone 43B infant formula/nutritional products subject to a restriction requiring all foreign-origin dairy products admitted to the subzone to be re-exported (sugar is of domestic origin). The current request would add a foreign-status material (lactose) to the scope of authority. Pursuant to 15 CFR 400.14(b), additional FTZ authority would be limited to the specific foreign-status material described in the submitted notification (as described below) and subsequently authorized by the FTZ Board.

Production under FTZ procedures could exempt Mead Johnson from customs duty payments on the foreign-status lactose used in export production. On its domestic sales, Mead Johnson would be able to choose the duty rates during customs entry procedures that apply to infant formula/nutritional products (duty rates range between 6.4% − $1.035/kg + 14.9%) authorized by the FTZ Board for the foreign-status lactose (6.4%). Customs duties also could possibly be deferred or reduced on foreign-status production equipment.

Public comment is invited from interested parties. Submissions shall be addressed to the FTZ Board's Executive Secretary at the address below. The closing period for their receipt is May 16, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: April 3, 2017.
Andrew McGilvray,
Executive Secretary.

[FR Doc. 2017-06834 Filed 4-5-17; 8:45 am]

BILLING CODE 3510-DS-P